SMALL BUSINESS ADMINISTRATION

[License No. 04/04-0349]

New Canaan Funding Mezzanine VII SBIC, LP; Notice Seeking Exemption Under Section 312 of the Small Business Investment Act, Conflicts of Interest

Notice is hereby given that New Canaan Funding Mezzanine VII SBIC, LP, 305 Fifth Avenue South, Suite 204 Naples, FL 34102, a Federal Licensee under the Small Business Investment Act of 1958, as amended (“the Act”), in connection with the financing of a small concerns, has sought an exemption under section 312 of the Act and 13 CFR 107.730, Financings which Constitute Conflicts of Interest of the Code of Federal Regulations. New Canaan Funding Mezzanine VII SBIC, LP is proposing to provide financing to Safemark Inc., 200 W. Sand Lake Rd., Suite 800, Orlando, FL to support the company's growth.

The proposed transaction is brought within the purview of 13 CFR 107.730 of the Code of Federal Regulations because New Canaan Funding Mezzanine V SBIC, LP and New Canaan Funding Mezzanine V, LP, Associates of New Canaan Funding Mezzanine VII SBIC, LP, by virtue of Common Control as defined at 13 CFR 107.50, hold investments in Safemark, Inc. which will be discharged. In addition, New Canaan Funding Mezzanine VII SBIC, LP and its Associates did not previously invest in Safemark, Inc. at the same time and on the same terms and conditions as the proposed financing to Safemark, Inc.

Therefore, the proposed transaction is considered self-deal pursuant to 13 CFR 107.730 and requires a regulatory exemption. Notice is hereby given that any interested person may submit written comments on the transaction within fifteen days of the date of this publication to Associate Administrator for Investment, U.S. Small Business Administration, 409 Third Street SW, Washington, DC 20416.

Bailey DeVries,
Associate Administrator, Office of Investment and Innovation, U.S. Small Business Administration.

[FR Doc. 2022-28213 Filed 12-27-22; 8:45 am]

BILLING CODE P